DEPARTMENT OF DEFENSE

Department of the Air Force

Record of Decision for the First Air National Guard F-35A Operational Base Final Environmental Impact Statement

ACTION: Notice of Availability (NOA) of a Record of Decision (ROD).

SUMMARY: On December 2, 2013, the United States Air Force signed the ROD for the F-35A Operational Basing Final Environmental Impact Statement (FEIS). The ROD states the Air Force decision to implement the Preffered Alternative to beddown 18 F-35A Primary aircraft authorized (PAA), at Burlington Air Guard Station, VT.

The decision was based on matters discussed in the FEIS, inputs from the public and regulatory agencies, and other relevant factors. The FEIS was made available to the public on October 4, 2013 through a NOA in the Federal Register (Volume 78, Number 193, Page 61845) with a wait period that ended on November 4 2013. The ROD documents only the decision of the Air Force with respect to the proposed Air Force actions analyzed in the FEIS. Authority: This NOA is published pursuant to the regulations (40 CFR Part 1506.6) implementing the provisions of the NEPA of 1969 (42 USC. 4321, et seq.) and the Air Force's Environmental Impact Analysis Process (EIAP) (32 CFR Parts 989.21(b) and 989.24(b)(7)).

FOR FURTHER INFORMATION CONTACT: Mr. Nicholas Germanos, ACC/A7NS, 129 Andrews St., Suite 332, Langley AFB, VA 23665, ph: 757-764-9334.

Bao-Anh Trinh,
Air Force Federal Register Liaison Officer.

[FR Doc. 2014-01973 Filed 1-30-14; 8:45 am]

BILLING CODE 5001-10-P